DEPARTMENT OF HEALTH AND HUMAN SERVICES

Administration for Children and Families

Submission for OMB Review; Comment Request

Title: Financial Institution Data Match.

OMB No. 0970-0196.

Description: Section 466(a)(17) of the Social Security Act (the Act) requires States to establish procedures under which the State Child Support Enforcement IV-D agencies shall enter into agreements with financial institutions doing business in States for the purpose of securing information leading to the enforcement of child support orders. Under 452(l) and 466(a)(17)(A)(i) of the Act, the Secretary may aid State agencies conducting data matches with financial institutions doing business in multiple States by centrally matching through the Federal Parent Locator Service.

Respondents: Financial institutions doing business in two or more States.

Annual Burden Estimates
Instrument | Number of respondents | Number of responses per respondent | Average burden hours per response | Total burden hours
Financial Data Match Tape | 4,465 | 4 | .5 | 8,930
Election Form | 71 | 1 | .5 | 35.5

Estimated Total Annual Burden Hours: 8.965.5.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: August 28, 2007.
Janean Chambers,
Reports Clearance Officer.

[FR Doc. 07-4293 Filed 8-31-07; 8:45 am]

BILLING CODE 4184-01-M